DEPARTMENT OF THE INTERIOR

Bureau of Land Management

[LLWY921000.L14400000.ET0000; WYW 141567]

Public Land Order No. 7892; Extension of Public Land Order No. 7434; Withdrawal of Public Land for Whiskey Mountain Bighorn Sheep Winter Range, Wyoming

AGENCY: Bureau of Land Management, Interior.

ACTION: Public land order.

SUMMARY: This order extends the duration of the withdrawal created by Public Land Order (PLO) No. 7434, which would otherwise expire on March 23, 2020, for an additional 20-year period. PLO No. 7434 withdrew 1,430.92 acres of public lands from settlement, sale, location, or entry under the general land laws, including the United States mining laws, but not from leasing under the mineral leasing laws. The purpose of this withdrawal extension is to protect the Whiskey Mountain Bighorn Sheep Winter Range and capital investments in the area for an additional 20-year term.

DATES: This PLO takes effect on March 24, 2020.

FOR FURTHER INFORMATION CONTACT: Keesha Cary, Realty Specialist, at (307) 775-6189, Bureau of Land Management, Wyoming State Office, P.O. Box 1828, Cheyenne, Wyoming 82003. Persons who use a telecommunications device for the deaf (TDD) may call the Federal Relay Service (FRS) at 1-800-877-8339 to contact the above individual. The FRS is available 24 hours a day, 7 days a week, to leave a message or question with the above individual. You will receive a reply during normal business hours.

SUPPLEMENTARY INFORMATION: This Order extends the existing withdrawal to continue to protect the Whiskey Mountain Bighorn Sheep Winter Range and capital investments in the area.

Order

By virtue of the authority vested in the Secretary of the Interior by Section 204 of the Federal Land Policy and Management Act of 1976, 43 U.S.C. 1714, it is ordered as follows:

1. Subject to valid existing rights, PLO No. 7434 (65 FR 15920 (2000)), which withdrew 1,430.92 acres of public lands from settlement, sale, location, or entry under the general land laws, including the United States mining laws, but not from leasing under the mineral leasing laws, is hereby extended for an additional 20-year period.

2. This withdrawal extended by this Order will expire on March 23, 2040, unless as a result of a review conducted prior to the expiration date pursuant to Section 204(f) of the Federal Land Policy and Management Act of 1976, 43 U.S.C. 1714(f), the Secretary determines that the withdrawal shall be further extended.

Dated: March 2, 2020.
Rob Wallace,
Assistant Secretary for Fish and Wildlife and Parks.

[FR Doc. 2020-04637 Filed 3-5-20; 8:45 am]

BILLING CODE 4310-22-P